DEPARTMENT OF VETERANS AFFAIRS

38 CFR Part 21

RIN 2900-AK80

Veterans and Dependents Education: Topping-Up Tuition Assistance; Licensing and Certification Tests; Duty To Assist Education Claimants; Correction

AGENCY: Department of Veterans Affairs.

ACTION: Correcting amendment.

SUMMARY: The Department of Veterans Affairs (VA) published a document in the Federal Register on April 5, 2007 (72 FR 16962), amending the regulations governing various aspects of the education programs that VA administers. That document contained several technical errors: reference to two subparts that were not specifically identified, incorrect words used to identify the individuals eligible for a particular program of educational assistance, and incorrect references when citing to other provisions of VA's regulations. This document corrects those errors.

DATES: Effective Date: June 29, 2007.

Applicability Dates: The corrections to § 21.4131(a)(ii) and (d) (concerning educational assistance for licensing and certification tests) are applied retroactively to March 1, 2001. The corrections to §§ 21.7075 and 21.7142(b) (concerning “tuition assistance top-up”) are applied retroactively to October 30, 2000. These accord with the applicability dates stated under DATES at 72 FR 16962 for provisions with those respective subject matters.

FOR FURTHER INFORMATION CONTACT: Diane M. Walters, Management and Program Analyst, Education Service, Veterans Benefits Administration, Department of Veterans Affairs (225C), 810 Vermont Avenue, NW., Washington, DC 20420, (202) 461-9849. (This is not a toll-free telephone number.)

SUPPLEMENTARY INFORMATION: On April 5, 2007, VA published a document in the Federal Register (72 FR 16962) amending its education regulations to implement VA's authority under the Veterans Benefits and Health Care Improvement Act of 2000, the Veterans Claims Assistance Act of 2000, and the Floyd D. Spence National Defense Authorization Act for Fiscal Year 2001. In part, these Acts provided educational assistance under the Survivors' and Dependents' Educational Assistance Program (DEA), the Post-Vietnam Era Veterans' Educational Assistance Program, and the Montgomery GI Bill-Active Duty for the cost of taking tests for licensure or certification.

In subpart D, in the introductory text of § 21.4131, we made reference to subparts C and G, but in subsequent paragraphs (a)(2)(ii) and (d)(2)(ii), we referred to “this subpart” rather than identifying the applicable subparts. This document corrects that error by specifying “subpart G” in paragraph (a)(2)(ii) and “subpart C” in paragraph (d)(2)(ii).

In § 21.4131(d), in describing individuals eligible for DEA, the provisions of § 21.4131(d) introductory text properly refer to “a person eligible to receive educational assistance under 38 U.S.C. chapter 35” and in § 21.4131(d)(1)(i) properly refer to “the eligible person”, but when amending § 21.4131(d)(2) we twice incorrectly referred instead to “the veteran or servicemember”, even though individuals eligible for DEA need not have had any military service. This document corrects that error by referring instead to “the eligible person” in the first instance and “he or she” in the second instance.

When revising § 21.7075, a typographical error occurred in the last sentence of § 21.7075, in the cross-reference citation. This document corrects that error by removing “§ 21.7076(b)(11)” and replacing it with “§ 21.7076(b)(10)”.

Lastly, when revising § 21.7142, we mistakenly in § 21.7142(b)(5)(ii) cited to the wrong paragraphs. This document corrects that error by removing “paragraph (a)(1) or (a)(2)” and replacing it with “paragraph (b)(1) or (b)(2)”.

List of Subjects in 38 CFR Part 21

Administrative practice and procedure, Armed forces, Civil rights, Claims, Colleges and universities, Conflict of interests, Education, Employment, Grant programs—education, Grant programs—veterans, Health care, Loan programs—education, Loan programs—veterans, Manpower training programs, Reporting and recordkeeping requirements, Schools, Travel and transportation expenses, Veterans, Vocational education, Vocational rehabilitation.

Approved: June 25, 2007.
Robert C. McFetridge,
Assistant to the Secretary for Regulation Policy and Management.

For the reasons set out in the preamble, VA is correcting 38 CFR part 21 (subparts D and K) as set forth below:

PART 21—VOCATIONAL REHABILITATION AND EDUCATION

Subpart D—Administration of Educational Assistance Programs

1. The authority citation for part 21, subpart D continues to read as follows:

Authority: 10 U.S.C. 2141 note, ch. 1606; 38 U.S.C. 501(a), chs. 30, 32, 34, 35, 36, and as noted in specific sections.

2. Amend § 21.4131 by:

a. In paragraph (a)(2)(ii), removing “this subpart” and adding, in its place, “subpart G”.

b. In paragraph (d)(2) introductory text, removing “veteran or servicemember” and adding, in its place, “eligible person”.

c. In paragraph (d)(2)(ii), removing “the veteran or servicemember” and adding, in its place, “he or she” and removing “this subpart” and adding, in its place, “subpart C”.

Subpart K—All Volunteer Force Educational Assistance Program (Montgomery GI Bill—Active Duty)

3. The authority citation for part 21, subpart K continues to read as follows:

Authority: 38 U.S.C. 501(a), chs. 30, 36, and as noted in specific sections.

§ 21.7075 [Amended]

4. Amend § 21.7075 by removing “§ 21.7076(b)(11)” and adding, in its place, § 21.7076(b)(10)”.

§ 21.7142 [Amended]

5. Amend § 21.7142(b)(5)(ii) by removing “paragraph (a)(1) or (a)(2)” and adding, in its place, “paragraph (b)(1) or (b)(2)”.

[FR Doc. E7-12589 Filed 6-28-07; 8:45 am]

BILLING CODE 8320-01-P